DEPARTMENT OF JUSTICE

Antitrust Division

Notice Pursuant to the National Cooperative Research and Production Act of 1993—ODPi, Inc.

Notice is hereby given that, on April 6, 2018, pursuant to Section 6(a) of the National Cooperative Research and Production Act of 1993, 15 U.S.C. 4301 et seq. (“the Act”), ODPi, Inc. (“ODPi”) has filed written notifications simultaneously with the Attorney General and the Federal Trade Commission disclosing changes in its membership. The notifications were filed for the purpose of extending the Act's provisions limiting the recovery of antitrust plaintiffs to actual damages under specified circumstances. Specifically, Attunity, Burlington, MA; ING, Amsterdam, NETHERLANDS; and SAP SE, Walldorf, GERMANY, have been added as parties to this venture.

Also, Pivotal Software, Inc., Palo Alto, CA; Altiscale, Inc., Palo Alto, CA; Squid Solutions, Inc., San Francisco, CA; TOSHIBA Corporation/Industrial ICT Solutions Company, Kanagawa, JAPAN; Z Data Inc., Newark, DE; Zettaset, Inc., Mountain View, CA; SAS Institute Inc., Cary, NC; Capgemini Service SAS, Paris, FRANCE; NEC Corporation, Tokyo, JAPAN; Philippine Long Distance Telephone Company, Makati City, PHILIPPINES; Cask Data, Inc., Palo Alto, CA; Splunk Inc., San Francisco, CA; Xavient Information System, Herndon, VA; DriveScale, Inc., Sunnyvale, CA; Redoop, Beijing, PEOPLE'S REPUBLIC OF CHINA; China Mobile Communication Company Ltd., Beijing, PEOPLE'S REPUBLIC OF CHINA; High Octane SPRL, Bierges, BELGIUM; and Innovyt LLC, Edison, NJ, have withdrawn as parties to this venture.

In addition, Beijing AsiaInfo Smart Big Data Co, Ltd. has changed its name to AsiaInfo Technologies (H.K.) Limited, Beijing, PEOPLE'S REPUBLIC OF CHINA.

No other changes have been made in either the membership or planned activity of the group research project. Membership in this group research project remains open, and ODPi intends to file additional written notifications disclosing all changes in membership.

On November 23, 2015, ODPi filed its original notification pursuant to Section 6(a) of the Act. The Department of Justice published a notice in the Federal Register pursuant to Section 6(b) of the Act on December 23, 2015 (80 FR 79930).

The last notification was filed with the Department on March 7, 2017. A notice was published in the Federal Register pursuant to Section 6(b) of the Act on March 27, 2017 (82 FR 15239).

Patricia A. Brink,
Director of Civil Enforcement, Antitrust Division.

[FR Doc. 2018-09459 Filed 5-3-18; 8:45 am]

BILLING CODE 4410-11-P